DEPARTMENT OF LABOR

Office of the Assistant Secretary for Veterans' Employment and Training

The Advisory Committee on Veterans' Employment, Training and Employer Outreach (ACVETEO); Notice of Open Teleconference Meeting

The Advisory Committee on Veterans' Employment, Training and Employer Outreach (ACVETEO) was established pursuant to Title II of the Veterans' Housing Opportunity and Benefits Improvement Act of 2006 (Pub. L. 109-233) and Section 9 of the Federal Advisory Committee Act (FACA) (Pub. L. 92-462, Title 5 U.S.C. app.II). The authority of the ACVETEO is codified in Title 38 U.S. Code, Section 4110.

The ACVETEO is responsible for assessing employment and training needs of veterans; determining the extent to which the programs and activities of the U.S. Department of Labor meet these needs; and assisting to conduct outreach to employers seeking to hire veterans. The ACVETEO will conduct a teleconference business meeting on March 31, 2010, from 3 p.m. to 4 p.m. EDT.

The ACVETEO will discuss its future direction forward in providing advice on programs to assist veterans seeking employment and to raising employer awareness as to the advantages of hiring veterans, with special emphasis on employer outreach and wounded and injured veterans. There will be an opportunity for persons or organizations to join the teleconference. Any individual or organization that wishes to join the teleconference should contact Margaret Hill Watts at (202) 693-4744. Time constraints may limit discussion.

Signed in Washington, DC, on the 9th of March 2010.
John M. McWilliam,
Deputy Assistant Secretary, Veterans' Employment and Training Service.

[FR Doc. 2010-5839 Filed 3-17-10; 8:45 am]

BILLING CODE 4510-79-P